DEPARTMENT OF AGRICULTURE

Natural Resources Conservation Service

Soil and Water Resources Conservation Act (RCA); Meetings

AGENCY: Natural Resources Conservation Service (NRCS), Department of Agriculture (USDA).

ACTION: Notice of public meetings.

SUMMARY: NRCS will hold public meetings to gather stakeholder input on important natural resource concerns and program approaches to address these natural resource concerns in the next decade.

On June 22, 2008, Congress reauthorized the RCA, 16 U.S.C. 2001-2009, through amendments in the Food, Conservation, and Energy Act of 2008 (Pub. L. 110-246). In the reauthorization, Congress extended RCA through 2018 and called for the first report to be delivered to Congress by January 2011. RCA provides USDA with broad strategic assessment and planning authority and calls for the development of a national program to guide USDA activities for the conservation, protection, and enhancement of soil, water, and related natural resources. Through RCA, USDA appraises the status and trends of soil, water, and related resources on non-Federal land, assesses their capability to meet present and future demands, evaluates current and needed programs, policies, and authorities, and develops a national soil and water conservation program to give direction for USDA soil and water conservation activities.

Public participation is a central element of the RCA process. USDA will hold listening sessions to provide the public with an opportunity to comment on conservation priorities, program approaches, future conservation needs, and opportunities to improve the appraisal process.

DATES: The meetings will be held on the following dates at the following locations:

Meeting location | Date | Local time | Co-host
Ramkota Hotel, 800 S.Third Street, Bismarck, North Dakota 58504-5728 | June 15 | 10:30-12:30 | National Association of Conservation Districts—Northern Plains Regional Meeting.
Albuquerque Convention Center, 401 Second Street, Albuquerque, New Mexico 87012 | June 15 | 2:30-4:30 | National Association of Resource Conservation and Development Councils—National Conference.
Holiday Inn Select, 155 Holiday Drive, Solomons, Maryland 20688 | July 27 | 1:45-3:30 | National Association of Conservation Districts—Northeast Regional Meeting.

FOR FURTHER INFORMATION CONTACT: Patty Lawrence, Director, Strategic and Performance Planning Division, NRCS, Post Office Box 2890, Washington, DC 20013; telephone: (202) 690-0467; or fax: (202) 720-3057. Submit electronic requests for additional information to RCA@wdc.usda.gov.

Signed in Washington, DC on May 20, 2009.
Dave White,
Chief.

[FR Doc. E9-12340 Filed 5-27-09; 8:45 am]

BILLING CODE 3410-16-P